DEPARTMENT OF THE TREASURY

Submission for OMB Review; Comment Request

November 22, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 2, 2003 to be assured of consideration.

Internal Revenue Service (IRS)

OMB Number: 1545-1425.

Regulation Project Number: PS-55-93 (Temporary and Cross-Reference NPRM).

Type of Review: Extension.

Title: Certain Elections for Intangible Property.

Description: The information is required by the IRS to aid it in the law and preventing manipulation. The information will be used to verify that a taxpayer is properly reporting its amortization and income taxes. The likely respondents are businesses or other for-profit institutions.

Respondents: Business or other for-profit.

Estimated Number of Respondents: 100.

Estimated Burden Hours Per Respondent: 1 hour.

Frequency of Response: Other (once, 1993 tax return).

Estimated Total Reporting Burden: 100 hours.

OMB Number: 1545-1515.

Regulation Project Number: REG-209817-96 NPRM.

Type of Review: Extension.

Title: Treatment of Obligation-Shifting Transactions.

Description: Section 1.7701(1)-2 recharacterizes certain multiple-party financing transactions. Pass-through entities engaging in these transactions must reflect the required recharacterization on their books. This collection of information is required to verify compliance with the regulation and will be used to determine whether the amount of tax has been correctly computed.

Respondents: Business or other for-profit.

Estimated Number of Recordkeepers: 100.

Estimated Burden Hours Per Recordkeeper: 5 hours.

Estimated Total Recordkeeping Burden: 500 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Departmental Reports Management Officer.

[FR Doc. 02-30576 Filed 12-2-02; 8:45 am]

BILLING CODE 4830-01-P